DEPARTMENT OF COMMERCE

National Oceanic and Atmospheric Administration

50 CFR Part 648

RIN 0648-XB238

Fisheries of the Northeastern United States; Northeast Skate Complex; Rescission of Control Dates

AGENCY: National Marine Fisheries Service (NMFS), National Oceanic and Atmospheric Administration (NOAA), Commerce.

ACTION: Notification of rescinded control dates.

SUMMARY: NMFS announces the rescission of the July 30, 2009, and March 31, 2014, skate wing and bait fishery control dates. The New England Fishery Management Council has decided to discontinue development of limited access alternatives for both the skate wing and skate bait fisheries as part of Amendment 5 to the Northeast Skate Complex Fishery Management Plan. The Council also stated that the existing control dates for each sector of the fishery are too outdated to be used should the Council reconsider limited access for the skate fisheries in the future and has requested that NMFS rescind both control dates. This notification informs stakeholders and the public of this decision, and that July 30, 2009, and March 31, 2014, are no longer considered dates for entry into the bait and skate wing fisheries, respectively.

DATES: The rescission of skate wing and bait fishery control dates is effective August 31, 2021.

FOR FURTHER INFORMATION CONTACT: Cynthia Ferrio, Fishery Policy Analyst, (978) 281-9180.

SUPPLEMENTARY INFORMATION: The New England Fishery Management Council manages a complex of seven skate species (barndoor, clearnose, little, rosette, smooth, thorny, and winter skate) through the Northeast Skate Complex Fishery Management Plan (FMP). Under this FMP, skates are harvested and managed within two targeted fishery sectors, one for use as food (the wing fishery) and one for use as bait in other fisheries (the bait fishery). Currently, all skate permits are open access and may be obtained anyone with a valid commercial operator's permit.

NMFS announced a control date of July 30, 2009, for the bait sector of the fishery (74 FR 37977; July 30, 2009) during the initial development of Amendment 3 to the Skate FMP. At that time, the Council was concerned about the possibility of increased effort by new entrants into the skate bait fishery, and therefore, considered developing a limited access program for that sector only. The notification announcing the control date intended to promote public awareness of potential eligibility criteria for access to the fishery and possible implementation of a limited-entry management plan. Although Amendment 3 (75 FR 34049; June 16, 2010) did not end up establishing limited entry for the bait fishery, the July 30, 2009 control date remained on record for future use.

On March 31, 2014, NMFS announced a separate control date for the wing fishery at the Council's request (79 FR 18002; March 31, 2014). This notification was not tied to a specific regulatory action or amendment at the time, but was intended as a preliminary step toward preparing for a limited entry program for the overall skate fishery and announcing these possibilities to the public.

In 2016, the Council began developing Amendment 5 to the Skate FMP, which included consideration of limited access for both the bait and wing sectors of the fishery. However, at its meeting in April 2021, the Council decided to discontinue development of all limited access alternatives in this amendment in favor of other management strategies to address latent effort. In conjunction with that decision, the Council also determined that both control dates for the wing and bait skate fisheries are outdated should a limited access program be reconsidered in the future. As a result, at its following meeting in June 2021, the Council voted to request NMFS rescind the existing control dates for the skate FMP. Therefore, NMFS announces the rescission of the July 30, 2009, control date with respect to the skate bait fishery; and the March 31, 2014, control date with respect to the skate wing fishery.

The Council decided to not develop a limited entry management system for the Skate FMP in Amendment 5. However, if the Council chooses to pursue limited access in the future, it will consider new control dates for these fisheries.

Authority: 16 U.S.C. 1801 et seq.

Dated: August 25, 2021.
Jennifer M. Wallace,
Acting Director, Office of Sustainable Fisheries, National Marine Fisheries Service.

[FR Doc. 2021-18679 Filed 8-30-21; 8:45 am]

BILLING CODE 3510-22-P